NATIONAL SCIENCE FOUNDATION

Advisory Committee for Mathematical and Physical Sciences; Notice of Meeting

In accordance with the Federal Advisory Committee Act (Pub., L. 92-463, as amended), the National Science Foundation (NSF) announces the following meeting:

NAME AND COMMITTEE CODE: Advisory Committee for Mathematical and Physical Sciences (#66) (VIRTUAL).

DATE AND TIME: April 23, 2018; 3:30 p.m.-4:30 p.m. EDT.

PLACE: National Science Foundation, 2415 Eisenhower Avenue, Alexandria, VA 22314 (Virtual Meeting).

Meeting Information: https://www.nsf.gov/mps/advisory.jsp.

TYPE OF MEETING: Closed.

CONTACT PERSON: Tamara Savage, National Science Foundation, 2415 Eisenhower Avenue, Alexandria, VA 22314. Phone: (703) 292-4934. Email: tasavage@nsf.gov.

PURPOSE OF MEETING: To consider confidential, pre-decisional NSF action plans regarding a large facility and provide advice, recommendations, and counsel on major goals and policies pertaining to mathematical and physical sciences programs and activities.

Agenda

Monday, April 23, 2018, 3:30 p.m.-4:30 p.m. EDT

Meeting opening and FACA briefing.

Discussion of confidential, pre-decisional NSF action plans regarding a large facility.

Adjourn.

REASON FOR CLOSING: Meeting will have to do with confidential, pre-decisional NSF action plans regarding a large facility and will include discussion of proprietary proposal details and merit review panel reports, potential proposed agency actions, and future budget requests, and may properly be closed to the public under 5 U.S.C. 552b(c), (4), (6) and (9), (B) of the Government in the Sunshine Act.

Dated: April 2, 2018.
Crystal Robinson,
Committee Management Officer.

[FR Doc. 2018-06944 Filed 4-4-18; 8:45 am]

BILLING CODE 7555-01-P